NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by August 15, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application: 2013-011

1 Applicant: Celia Lang, Lockheed Martin IS&GS, Antarctic Support Contract, 7400 S. Tucson Way, Centennial, CO 80112-3938.

Activity for Which Permit Is Requested

Enter Antarctic Specially Protected Area. The applicant plans to enter ASPA 122—Arrival Heights to operate the ELFNLF receiver, riometer and magnetometer for studies of the earth's magnetic field and ionosphere, high latitude neutral mesospheric and thermospheric dynamics and thermodynamics, UV monitoring, aerosols investigations, and pollution surveys. Crary Science and Engineering Center Research Associate(s) will need to access the site daily for equipment monitoring, data acquisition, calibration, and repairs. Official scientific visitors may enter the site for educational and for oversight purposes.

Personnel from the ASC Infrastructure and Operations (I&O) and other support departments may be called upon to perform inspections, maintenance or repair functions at the faculties within the ASPA. Other personnel will need to enter ASPA 122 to monitor and maintain or repair weather equipment within the site.

Location

Arrival Heights, Hut Point Peninsula, Ross Island (ASPA 122).

Dates

August 15, 2012 to August 31, 2017.

Permit Application: 2013-012

2. Applicant: Celia Lang, Lockheed Martin IS&GS, Antarctic Support Contract, 7400 S. Tucson Way, Centennial, CO 80112-3938.

Activity for Which Permit Is Requested

Enter Antarctic Specially Protected Area. The applicant plans to enter ASPA 149—Cape Shirreff, Livingston Island to support activities in support of scientific research conducted at the USAP field research facility at Cape Shirreff. Activities include: movement of personnel and supplies from ship to shore via zodiac or small boat; opening and closing the research facility onshore and associated activities; and, maintaining and servicing on-shore facilities and equipment.

Location

Cape Shirreff, Livingston Island (ASPA 149).

Dates

August 15, 2012 to August 31, 2017.

Permit Application: 2013-013

3. Applicant: Celia Lang, Lockheed Martin IS&GS, Antarctic Support Contract, 7400 S. Tucson Way, Centennial, CO 80112-3938.

Activity for Which Permit Is Requested

Enter Antarctic Specially Protected Areas. The applicant plans to possibly enter ASPA 105-Beaufort Island, ASPA 116—New College Valley, Caughley Beach, Cape Bird, Ross Island, ASPA 121—Cape Royds, ASPA 122—Arrival Heights, ASPA 124—Cape Crozier, ASPA 157—Backdoor Bay, Cape Royds, and ASPA 185-Cape Evans for the purpose of gathering professional video footage, still photographs, and to interview scientists. Any footage, pictures, interviews, and information gathered during site visits could potentially be used in outreach videos, archived for future use, or be published in The Antarctic Sun, the official online publication of the U.S. Antarctic Program (USA), which is managed by the National Science Foundation.

Visits to the ASPAs will be limited as operational, scientific conditions, and the availability of transportation permits. Visits will take place in conjunction with valid scientific activities for the express purpose of gathering footage and information on scientific research, general scenic locations, and interviews with scientists working in the field.

Location

ASPA 105—Beaufort Island, ASPA 116—New College Valley, Caughley Beach, Cape Bird, Ross Island, ASPA 121—Cape Royds, ASPA 122—Arrival Heights, ASPA 124—Cape Crozier, ASPA 157—Backdoor Bay, Cape Royds, and ASPA 185—Cape Evans.

Dates

August 15, 2012 to August 31, 2017.

Permit Application: 2013-014

4. Applicant: Celia Lang, Lockheed Martin IS&GS, Antarctic Support Contract, 7400 S. Tucson Way, Centennial, CO 80112-3938.

Activity for Which Permit Is Requested

Enter Antarctic Specially Protected Area. The applicant plans to enter ASPA 128—Cape Copacabana, Western shore of Admiralty Bay, King George Island to support research activities conducted at the USAP field research facility at Copacabana. Activities include: movement of personnel and supplies from ship to shore via zodiac or small boat; opening and closing the research facilities on shore and associated activities; and, maintaining and servicing on-shore facilities and equipment.

Location

ASPA 128—Cape Copacabana, Western shore of Admiralty Bay, King George Island.

Dates

August 15, 2012 to August 31, 2017.

Permit Application: 2013-015

5. Applicant: Celia Lang, Lockheed Martin IS&GS, Antarctic Support Contract, 7400 S. Tucson Way, Centennial, CO 80112-3938.

Activity for Which Permit Is Requested

Enter Antarctic Specially Protected Area. The applicant plans to enter ASPA 124—Cape Crozier, Ross Island to conduct occasional operations, maintenance, construction, and rehabilitation activities on an annual basis inside the Cape Crozier ASPA. The USAP civilian support contractor work centers that perform annual work at Cape Crozier include: Infrastructure and Operations (I&O), the Communications shop, the Mechanical Equipment Center (MEC), and the Berg Field Center (BFC). Typically, these visits are conducted at the beginning and end of each austral summer season to open and close facilities used for scientific research; additional visits may also be necessary during the course of the season.

Location

ASPA 124—Cape Crozier, Ross Island.

Dates

August 15, 2012 to August 31, 2017.

Permit Application: 2013-016

6. Applicant: Celia Lang, Lockheed Martin IS&GS, Antarctic Support Contract, 7400 S. Tucson Way, Centennial, CO 80112-3938.

Activity for Which Permit Is Requested

Enter Antarctic Specially Protected Areas. The applicant plans to enter ASPA 155—Cape Evans, Ross Island (Scott's Hut), ASPA 157—Backdoor Bay, Cape Royds, Ross Island (Shackleton's Hut), ASPA 158—Hut Point, Ross Island, and ASPA 159—Cape Adare to allow recreational and educational visits to the historic sites, as permitted by the Management Plans, for USAP participants. The historic huts at Cape Royds and Cape Evan are in close proximity to McMurdo Station, whereas Hut Point sits adjacent to the station. Procedures for monitoring numbers of USAP visitors to the huts throughout the season will be implemented

Location

ASPA 155—Cape Evans, Ross Island (Scott's Hut), ASPA 157—Backdoor Bay, Cape Royds, Ross Island (Shackleton's Hut), ASPA 158—Hut Point, Ross Island, and ASPA 159—Cape Adare

Dates

August 15, 2012 to August 31, 2017.

Nadene G. Kennedy,
Permit Officer, Office of Polar Programs.

[FR Doc. 2012-17195 Filed 7-13-12; 8:45 am]

BILLING CODE 7555-01-P